DEPARTMENT OF AGRICULTURE

Food and Nutrition Service

Agency Information Collection Activities: Proposed Collection; Comment Request: National Survey of WIC Participants II

AGENCY: Food and Nutrition Service (FNS).

ACTION: Notice.

SUMMARY: In accordance with the Paperwork Reduction Act of 1995, this notice invites the general public and other public agencies to comment on this proposed information collection.

DATES: Written comments on this notice must be received on or before June 17, 2008.

ADDRESSES: Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including use of appropriate automated, electronic, mechanical, or other technological collection techniques or other forms of information technology.

Comments may be sent to: Steven Carlson, Director, Office of Research, Nutrition, and Analysis, Food and Nutrition Service, U.S. Department of Agriculture, 3101 Park Center Drive, Alexandria, VA 22302. Comments may also be submitted via fax to the attention of Steven Carlson at (703) 305-2576, or via e-mail to Steven.Carlson@fns.usda.gov.

All written comments will be open for public inspection at the office of the Food and Nutrition Service during regular business hours (8:30 a.m. to 5 p.m., Monday through Friday) at 3101 Park Center Drive, Alexandria, Virginia 22302, Room 1014.

All responses to this notice will be summarized and included in the request for Office of Management and Budget (OMB) approval. All comments will also become a matter of public record.

FOR FURTHER INFORMATION CONTACT: Requests for additional information or copies of this information collection should be directed to Steven Carlson (703) 305-2017.

SUPPLEMENTARY INFORMATION:

Title: National Survey of WIC Participants II.

OMB Number: Not yet assigned.

Expiration Date: To be determined.

Type of Request: New collection of information.

Abstract: In accordance with the Improper Payments Information Act of 2002 (Public Law No. 107-300), which seeks to improve the integrity of the government's payments and the efficiency of programs and activities, including the Special Supplemental Nutrition Program for Women, Infants, and Children (WIC), FNS is seeking to carry out a Second National Survey of WIC Participants (NSWP II). Ten years have elapsed since the first NSWP survey was conducted. That study provided national estimates of the case error rate and dollar error for the WIC program. It also collected demographic information about WIC participants and their families. The NSWP II study seeks to: (1) Estimate the annual cost of erroneous payments in the WIC program by examining erroneous payments caused by WIC certification error among applicants; and (2) provide information on the policies, procedures, operations, and staff of WIC State agencies and explore the characteristics and experiences of WIC applicants and participants. In addition, the study will develop a model for updating estimates of erroneous payments due to certification error in the WIC program that will allow the Food and Nutrition Service to calculate erroneous payments for the next 10 years before the next major NSWP study.

Affected Public: State WIC Agency officials, Local WIC Agency directors and WIC participants.

Proposed Collection: State WIC Agency Survey: Public burden is estimated at 66 minutes for one response each with a total of 99 hours for 90 respondents.

Local WIC Agency Survey: Public burden is estimated at 40 minutes for one response each with a total of 334 hours for 500 respondents.

WIC Participants Data Collection (telephone interview only): Public burden is estimated at 24 minutes for one response each with a total of 480 hours for 1200 respondents.

WIC Participants Data Collection (telephone and in-home interviews): Public burden is estimated at 60 minutes (24 minutes telephone and 36 minutes in-home) for one response each with a total of 1200 hours for 1200 respondents.

WIC Denied/Terminated Applicants Data Collection: Public burden is estimated at 6 minutes for one response each with a total of 64 hours for 640 respondents.

Reporting Burden
Respondent | Estimated number of respondents | Responses annually per respondent | Total annual responses (col. b × c) | Estimated avg. number of hours per response | Estimated total hours (col. d × e)
WIC Participants—telephone interviews only | 1,200 | 1.00 | 1,200 | 0.40080 | 480.960
WIC Participants—telephone and home interview | 1,200 | 1.00 | 1,200 | 1.00000 | 1,200.000
WIC Denied/Terminated Applicants Data Collection | 640 | 1.00 | 640 | 0.10020 | 64.128
State WIC Agency Survey | 90 | 1.00 | 90 | 1.10220 | 99.198
Local WIC Agency Survey | 500 | 1.00 | 500 | 0.66800 | 334.000
Total | 3,630 |  | 3,630 |  | 2,178.286

Estimated Number of Respondents: 3,630.

Estimated Number of Responses per Respondent: 1 (average).

Estimated Total Annual Responses: 3,630.

Estimated Time Per Response: 0.6 hours.

Estimated Total Annual Burden Hours Requested: 2,178.286 hours.

Dated: April 14, 2008.
Roberto Salazar,
Administrator, Food and Nutrition Service.

[FR Doc. E8-8457 Filed 4-17-08; 8:45 am]

BILLING CODE 3410-30-P